Title 3—

The President

Proclamation 10948 of June 4, 2025

Enhancing National Security by Addressing Risks at Harvard University

By the President of the United States of America

A Proclamation

Admission into the United States to attend, conduct research, or teach at our Nation's institutions of higher education is a privilege granted by our Government, not a guarantee. That privilege is necessarily tied to the host institution's compliance and commitment to following Federal law. Harvard University has failed in this respect, among many others.

The Student Exchange Visa Program (SEVP) depends fundamentally on academic institutions' good faith, transparency, and full adherence to the relevant regulatory frameworks. This is for crucial national-security reasons. The Federal Bureau of Investigation (FBI) has long warned that foreign adversaries and competitors take advantage of easy access to American higher education to, among other things, steal technical information and products, exploit expensive research and development to advance their own ambitions, and spread false information for political or other reasons. Our adversaries, including the People's Republic of China, try to take advantage of American higher education by exploiting the student visa program for improper purposes and by using visiting students to collect information at elite universities in the United States.

Protecting our national security requires host institutions of foreign students to provide sufficient information, when asked, to enable the Federal Government to identify and address misconduct by those foreign students. In my judgment, it presents an unacceptable risk to our Nation's security for an academic institution to refuse to provide sufficient information, when asked, about known instances of misconduct and criminality committed by its foreign students. This principle is one reason why SEVP regulations require foreign students to obey Federal and State criminal laws and require universities to keep records about foreign students' studies in the United States—including records relating to criminal activity by foreign students and resulting disciplinary proceedings—and furnish them to the Department of Homeland Security (DHS) on request.

Crime rates at Harvard University—including violent crime rates—have drastically risen in recent years. Harvard has failed to discipline at least some categories of conduct violations on campus. Given these facts, it is imperative, in my judgment, that the Federal Government be able to assess and, if necessary, address misconduct and crimes committed by foreign students at Harvard.

Despite the risks described above, Harvard University has refused the recent requests of the DHS for information about foreign students' “known illegal activity,” “known dangerous and violent activity,” “known threats to other students or university personnel,” “known deprivation of rights of other classmates or university personnel,” and whether those activities “occurred on campus,” and other related data. Harvard provided data on misconduct by only three students, and the data it provided was so deficient that the DHS could not evaluate whether it should take further actions. Harvard's actions show that it either is not fully reporting its disciplinary records for foreign students or is not seriously policing its foreign students. In my judgment, these actions and failures directly undermine the Federal Government's ability to ensure that foreign nationals admitted on student or exchange visitor visas remain in compliance with Federal law.

These concerns have compelled the Federal Government to conclude that Harvard University is no longer a trustworthy steward of international student and exchange visitor programs. When a university refuses to uphold its legal obligations, including its recordkeeping and reporting obligations, the consequences ripple far beyond the campus. They jeopardize the integrity of the entire United States student and exchange visitor visa system, compromise national security, and embolden other institutions to similarly disregard the rule of law.

Harvard University has also developed extensive entanglements with foreign countries, including our adversaries. According to The Harvard Crimson, Harvard has received more than $150 million in total contributions from foreign governments over the last 5 years, and over $1 billion from foreign sources. Over the last 10 years, Harvard has received more than $150 million from China alone. In exchange, Harvard has, among other things, “repeatedly hosted and trained members of a Chinese Communist Party paramilitary organization,” according to a probe by the House of Representatives Select Committee on the Chinese Communist Party. Harvard researchers have also partnered with China-based individuals on research that could advance China's military modernization, according to the same probe.

Finally, Harvard University continues to flout the civil rights of its students and faculty, triggering multiple Federal investigations. Harvard's discrimination against disfavored races in admissions was so blatant that the Supreme Court decision ending the practice nationwide bears Harvard's name. Yet even after that Supreme Court decision, Harvard and its affiliated organizations on campus continue to deny hardworking Americans equal opportunities. Instead of those Americans, Harvard admits students from non-egalitarian nations, including nations that seek the destruction of the United States and its allies, or the extermination of entire peoples. It is not in the interest of the United States to further compound Harvard's discrimination against non-preferred races, national origins, shared ancestries, or religions by further reducing opportunities for American students through excessive foreign student enrollment.

Considering these facts, I have determined that it is necessary to restrict the entry of foreign nationals who seek to enter the United States solely or principally to participate in a course of study at Harvard University or in an exchange visitor program hosted by Harvard University. Such restrictions are authorized under sections 212(f) and 215(a) of the Immigration and Nationality Act (INA), 8 U.S.C. 1182(f) and 1185(a), which authorize the President to suspend entry of any class of aliens whose entry would be detrimental to the interests of the United States. I have determined that the entry of the class of foreign nationals described above is detrimental to the interests of the United States because, in my judgment, Harvard's conduct has rendered it an unsuitable destination for foreign students and researchers. Until such time as the university shares the information that the Federal Government requires to safeguard national security and the American public, it is in the national interest to deny foreign nationals access to Harvard under the auspices of educational exchange.

NOW, THEREFORE, I, DONALD J. TRUMP, President of the United States of America, by the authority vested in me by the Constitution and the laws of the United States of America, including sections 212(f) and 215(a) of the INA, 8 U.S.C. 1182(f) and 1185(a), and section 301 of title 3, United States Code, hereby find that, absent the measures set forth in this proclamation, the entry into the United States of persons described in section 1 of this proclamation would, except as provided for in section 2 of this proclamation, be detrimental to the interests of the United States, and that their entry should be subject to certain restrictions, limitations, and exceptions. I hereby proclaim as follows:

Section 1. Suspension of Entry. The entry of any alien into the United States as a nonimmigrant to pursue a course of study at Harvard University under section 101(a)(15)(F) or section 101(a)(15)(M) of the INA, 8 U.S.C. 1101(a)(15)(F) or 1101(a)(15)(M), or to participate in an exchange visitor program hosted by Harvard University under section 101(a)(15)(J) of the INA, 8 U.S.C. 1101(a)(15)(J), is suspended and limited, subject to section 2 of this proclamation. That suspension and limitation shall expire, absent extension, 6 months after the date of this proclamation.

Sec. 2. Scope and Implementation of Suspension and Limitation on Entry. (a) The suspension and limitation on entry pursuant to section 1 of this proclamation shall apply to aliens who enter or attempt to enter the United States to begin attending Harvard University through the SEVP after the date of this proclamation.

(b) The Secretary of State shall consider, in the Secretary's discretion, whether foreign nationals who currently attend Harvard University and are in the United States pursuant to F, M, or J visas and who otherwise meet the criteria described in section 1 of this proclamation should have their visas revoked pursuant to section 221(i) of the INA, 8 U.S.C. 1201(i).

(c) The suspension and limitation on entry pursuant to section 1 of this proclamation shall not apply to any alien who enters the United States to attend other universities through the SEVP.

(d) The suspension and limitation on entry pursuant to section 1 of this proclamation shall not apply to any alien whose entry would be in the national interest, as determined by the Secretary of State, the Secretary of Homeland Security, or their respective designees.

(e) No later than 90 days after the date of this proclamation, the Attorney General and the Secretary of Homeland Security shall jointly submit to the President, through the Assistant to the President for National Security Affairs, a recommendation on whether an extension or renewal of the suspension and limitation on entry in section 1 of this proclamation is in the interests of the United States.

Sec. 3. Operational Action to Implement this Order. The Secretary of State, the Attorney General, and the Secretary of Homeland Security shall coordinate to take all necessary and appropriate action to implement this proclamation. The Secretary of State, the Attorney General, and the Secretary of Homeland Security shall also consider using their respective authorities under the INA to impose limitations on Harvard University's ability to participate in the SEVP and the Student and Exchange Visitor Information System. Any such actions should include an exception for any alien whose entry would be in the national interest, as determined by the Secretary of State, the Secretary of Homeland Security, or their respective designees.

Sec. 4. General Provisions. (a) Nothing in this proclamation shall be construed to impair or otherwise affect:

(i) the authority granted by law to an executive department or agency, or the head thereof; or

(ii) the functions of the Director of the Office of Management and Budget relating to budgetary, administrative, or legislative proposals.

(b) This proclamation shall be implemented consistent with applicable law and subject to the availability of appropriations.

(c) This proclamation is not intended to, and does not, create any right or benefit, substantive or procedural, enforceable at law or in equity by any party against the United States, its departments, agencies, or entities, its officers, employees, or agents, or any other person.

IN WITNESS WHEREOF, I have hereunto set my hand this fourth day of June, in the year of our Lord two thousand twenty-five, and of the Independence of the United States of America the two hundred and forty-ninth.

[FR Doc. 2025-10668

Filed 6-9-25; 11:15 am]

Billing code 3395-F4-P